DEPARTMENT OF DEFENSE

National Imagery and Mapping Agency; Privacy Act of 1974; System of Records

AGENCY: National Imagery and Mapping Agency, DoD.

ACTION: Notice to Amend and Delete Systems of Records.

SUMMARY: The National Imagery and Mapping Agency (NIMA) is amending a system of records notice and deleting one from its existing inventory of record systems subject to the Privacy Act of 1974, (5 U.S.C. 552a), as amended.

In addition, NIMA is revising its Preamble to its Privacy Act systems of records to reflect its current name.

DATES: This proposed action will be effective without further notice on February 19, 2002 unless comments are received which result in a contrary determination.

ADDRESSES: Comments should be sent to the National Imagery and Mapping Agency, Office of General Counsel, 4600 Sangamore Avenue, Bethesda, MD 20816-5003.

FOR FURTHER INFORMATION CONTACT: Ms. Christine May on (301) 227-4142.

SUPPLEMENTARY INFORMATION: The National Imagery and Mapping Agency systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: January 14, 2002.
L.M. Bynum,
Alternate OSD Federal Register Liaison Officer, Department of Defense.

National Imagery and Mapping Agency

How Systems of Records Are Arranged

Imagery and Mapping Agency records are grouped by subject series. Each series has records about a specific activity or function to which a subject title and number is given. Systems or records are grouped in the same way. For example, a system of records on personnel security clearances may be found in Personnel Security Files—B0504-01 and one about military personnel assignments may be found in Military Services Administrative Record Files—B0614-02. These numbers are part of the system identification. The letter B means National Imagery and Mapping Agency. The first four digits (0504 and 0614) show that the records pertain to Personnel Security and Military Personnel respectively, and the last two are a further breakdown of the series. Other systems of records which differ from these examples but have similar documents may also be found in the same series.

How To Use the Index Guide

The systems of records maintained by the National Imagery and Mapping Agency are contained within the subject series that are listed below. This list identifies each series in the order in which it appears in this issuance. Use the list to identify subject areas of interest. Having done so, use the series number (for example 0504 for Personnel Security) to locate the systems of records grouping in which you are interested.

Subject series | System identification series
Inspection | 0210
Historical | 0228
Finance and Accounting | 0302
Civilian Personnel Pay and Accounting | 0303
General Legal | 0401
Claims Investigating and Processing Documents | 0402
Informational Services | 0408
Information Security | 0502
Guard Protective Services | 0503
Personnel Security | 0504
Military Personnel Files | 0614
Safety Management Program | 0615
Medical and Health Program | 0901
Individual Procurement Transactions | 1202
General Supply Accounting | 1205
Self Service Supply | 1206
Maintenance | 1208
Personnel Travel and Transportation | 1211

Requesting Records

Records are retrieved by name or by some other personal identifier. It is therefore especially important for expeditious service when requesting a record that particular attention be provided to the Notification and/or Access Procedures of the particular record system involved so as to furnish the required personal identifiers, or any other pertinent personal information as may be required to locate and retrieve the record.

Blanket Routine Uses

Certain ‘blanket routine uses’ of the records have been established that are applicable to every record system maintained within the Department of Defense unless specifically stated otherwise within a particular record system. These additional blanket routine uses of the records are published below only once in the interest of simplicity, economy and to avoid redundancy.

Law Enforcement Routine Use

In the event that a system of records maintained by this component to carry out its functions indicates a violation or potential violation of law, whether civil, criminal or regulatory in nature, and whether arising by general statute or by regulation, rule or order issued pursuant thereto, the relevant records in the system of records may be referred, as a routine use, to the appropriate agency, whether Federal, state, local, or foreign, charged with the responsibility of investigating or prosecuting such violation or charged with enforcing or implementing the statute, rule, regulation or order issued pursuant thereto.

Disclosure When Requesting Information Routine Use

A record from a system of records maintained by this component may be disclosed as a routine use to a Federal, state, or local agency maintaining civil, criminal, or other relevant enforcement information or other pertinent information, such as current licenses, if necessary to obtain information relevant to a component decision concerning the hiring or retention of an employee, the issuance of a security clearance, the letting of a contract, or the issuance of a license, grant or other benefit.

Disclosure of Requested Information Routine Use

A record from a system of records maintained by this component may be disclosed to a Federal agency, in response to its request, in connection with the hiring or retention of an employee, the issuance of a security clearance, the reporting of an investigation of an employee, the letting of a contract, or the issuance of a license, grant or other benefit by the requesting agency, to the extent that the information is relevant and necessary to the requesting agency's decision on the matter.

Congressional Inquiries Routine Use

Disclosure from a system of records maintained by this component may be made to a Congressional office from the record of an individual in response to an inquiry from the Congressional office made at the request of that individual.

Private Relief Legislation Routine Use

Relevant information contained in all systems of records of the Department of Defense published on or before August 22, 1975, may be disclosed to the Office of Management and Budget in connection with the review of private relief legislation as set forth in OMB Circular A-19 at any stage of the legislative coordination and clearance process as set forth in that Circular.

Disclosures Required By International Agreements Routine Use

A record from a system of records maintained by this component may be disclosed to foreign law enforcement, security, investigatory, or administrative authorities in order to comply with requirements imposed by, or to claim rights conferred in, international agreements and arrangements including those regulating the stationing and status in foreign countries of Department of Defense military and civilian personnel.

Disclosure to State and Local Taxing Authorities Routine Use

Any information normally contained in IRS Form W-2 which is maintained in a record from a system of records maintained by this component may be disclosed to state and local taxing authorities with which the Secretary of the Treasury has entered into agreements pursuant to Title 5, U.S. Code, Sections 5516, 5517, 5520, and only to those state and local taxing authorities for which an employee or military member is or was subject to tax regardless of whether tax is or was withheld. This routine use is in accordance with Treasury Fiscal Requirements Manual Bulletin Number 76-07.

Disclosure to the Office of Personnel Management Routine Use

A record from a system of records subject to the Privacy Act and maintained by this component may be disclosed to the Office of Personnel Management concerning information on pay and leave, benefits, retirement deductions, and any other information necessary for the Office of Personnel Management to carry out its legally authorized Government-wide personnel management functions and studies.

Disclosure to the Department of Justice for Litigation Routine Use

A record from a system of records maintained by this component may be disclosed as a routine use to any component of the Department of Justice for the purpose of representing the Department of Defense, or any officer, employee or member of the Department in pending or potential litigation to which the record is pertinent.

Disclosure to Military Banking Facilities Overseas Routine Use

Information as to current military addresses and assignments may be provided to military banking facilities who provide banking services overseas and who are reimbursed by the Government for certain checking and loan losses. For personnel separated, discharged, or retired from the Armed Forces, information as to last known residential or home of record address may be provided to the military banking facility upon certification by a banking facility officer that the facility has a returned or dishonored check negotiated by the individual or the individual has defaulted on a loan and that if restitution is not made by the individual, the U.S. Government will be liable for the losses the facility may incur.

Disclosure of Information to the General Services Administration Routine Use

A record from a system of records maintained by this component may be disclosed as a routine use to the General Services Administration for the purpose of records management inspections conducted under authority of 44 U.S.C. 2904 and 2906.

Disclosure of Information to the National Archives and Records Administration Routine Use

A record from a system of records maintained by this component may be disclosed as a routine use to the National Archives and Records Administration for the purpose of records management inspections conducted under authority of 44 U.S.C. 2904 and 2906.

Disclosure to the Merit Systems Protection Board Routine Use

A record from a system of records maintained by this component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of a DoD investigation, and such other functions, promulgated in 5 U.S.C. 1205 and 1206, or as may be authorized by law.

Counterintelligence Purposes Routine Use

A record from a system of records maintained by this component may be disclosed as a routine use outside the DoD or the U.S. Government for the purpose of counterintelligence activities authorized by U.S. Law or Executive Order or for the purpose of enforcing laws which protect the national security of the United States.

Deletions

B0303-01

System Name:

Individual Pay Record Files (February 22, 1993, 58 FR 10189).

Reason: These records are now covered under the Defense Finance and Accounting Service Privacy Act notice T7335, Defense Civilian Pay System (DCPS) (May 19, 2000, 65 FR 31888).

Amendment

B1211-03

System Name:

Passport Files (February 22, 1993, 58 FR 10189).

Changes:

* * * * *

System Name:

Add ‘and Visa’ to entry.

* * * * *

Categories of Records in the System:

Delete entry and replace with ‘Passports and documentation relating to passports and visas for NIMA personnel, including their dependents. Included are passports, requests and receipts for passports, transmittal letters, control cards, and related documents.’

* * * * *

Purpose(s):

Delete entry and replace with ‘Information is collected to obtain and safe keep official passports until needed for travel and to obtain necessary visas from appropriate Embassies; to notify individuals to reapply when passports expire and to return passports to the Department of State upon departure of the individual from NIMA.’

* * * * *

Storage:

Delete entry and replace with ‘Paper records in locked cabinets. Electronic records are maintained with restricted access requiring user name and password authorization to access network.’

* * * * *

B1211-03

System Name:

Passport and Visa Files.

System Location:

National Imagery and Mapping Agency, Financial Management Office, ATTN: Passport Agent, J-06, 3200 South Second Street, St. Louis, MO 63118-3399.

National Imagery and Mapping Agency Financial Management Office, ATTN: Passport Agent, P-3, 12310 Sunrise Valley Drive, Reston, VA 22091-3414.

Categories of Individuals Covered by the System: Individuals Traveling Overseas on Official Government Orders.

Categories of Records in the System:

Passports and documentation relating to passports and visas for National Imagery and Mapping Agency personnel, including their dependents. Included are passports, requests and receipts for passports, transmittal letters, control cards, and related documents.

Authority for Maintenance of the System:

5 U.S.C. 301, Departmental regulations and NIMA Instruction 5410.1, Travel Management.

Purpose(s):

Information is collected to obtain and safe keep official passports until needed for travel and to obtain necessary visas from appropriate Embassies; to notify individuals to reapply when passports expire and to return passports to the Department of State upon departure of the individual from NIMA.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DMA's compilation of systems of records notices apply to this system.

Policies and Practices for Storing, Retrieving, Accessing, Retaining, and Disposing of Records in the System:

Storage:

Paper records in locked cabinets. Electronic records are maintained with restricted access requiring user name and password authorization to access network.

Retrievability:

By name of individual.

Safeguards:

Records are maintained in a secured area/locked file cabinets with access limited to authorized personnel whose duties require access. Access to electronic record is limited to restricted access requiring user name and password authorization to access network.

Retention and Disposal:

Passport documentation only held in active office until separation or transfer of individual. Passport and all documentation are destroyed by active office upon separation. Letter of passport destruction is sent to State Department.

System Manager(s) and Address:

National Imagery and Mapping Agency, Financial Management, ATTN: Passport Agent, P-3, 12310 Sunrise Valley Drive, Reston, VA 22091-3414. National Imagery and Mapping Agency, Financial Management Office, ATTN: Passport Agent, J-06, 3200 South Second Street, St. Louis, MO 63118-3399.

Notification Procedure:

Individuals seeking to determine whether information about themselves is contained in this system should address written inquiries to National Imagery and Mapping Agency, 4600 Sangamore Road, GC (D10), Bethesda, MD 20816-5003.

Written requests for information should contain the full name of the individual, current address and telephone number.

Record Access Procedures:

Individuals seeking access to information about themselves contained in this system should address written inquiries to National Imagery and Mapping Agency, 4600 Sangamore Road, GC (D10), Bethesda, MD 20816-5003.

Written requests for information should contain the full name of the individual, current address and telephone number.

Contesting Record Procedures:

NIMA's rules for accessing records, and for contesting contents and appealing initial agency determinations are published in NIMA Instruction 5500.7R1; 32 CFR part 320; or may be obtained from the system manager.

Record Source Categories:

Requests and receipt for passports and visas.

Exemptions Claimed for the System:

None.

[FR Doc. 02-1333 Filed 1-17-02; 8:45 am]

BILLING CODE 5001-08-P